DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301)-443-1129.

Proposed Project: Healthcare Integrity and Protection Data Bank for Final Adverse Information on Health Care Providers, Suppliers, and Practitioners (OMB No. 0915-0239)—Revision

Section 221(a) of the Health Insurance Portability and Accountability Act (HIPAA) of 1996 specifically directs the Secretary to establish a national health care fraud and abuse data collection program for the reporting and disclosure of certain final adverse actions taken against health care providers, suppliers, and practitioners. A final rule was published October 26, 1999, in the Federal Register to implement the statutory requirements of section 1128E of the Social Security Act (The Act) as added by section 221(a) of HIPAA. The Act requires the Secretary to implement the national healthcare fraud and abuse data collection program. This data bank is known as the Healthcare Integrity and Protection Data Bank (HIPDB). It contains the following types of information: (1) Civil judgments against a health care provider, supplier, or practitioner in Federal or State court related to the delivery of a health care item or service; (2) Federal or State criminal convictions against a health care provider, supplier, or practitioner related to the delivery of a health care item or service; (3) Actions by Federal or State agencies responsible for the licensing and certification of health care providers, suppliers, or practitioners; (4) Exclusion of a health care provider, practitioner or supplier from participation in Federal or State health care programs; and (5) Any other adjudicated actions or decisions that the Secretary shall establish by regulations. Access to this data bank is limited to Federal and State government agencies and health plans.

This request is for a revision of reporting and querying forms previously approved on March 15, 2001. The reporting forms and the request for information forms (query forms) must be accessed, completed, and submitted to the HIPDB electronically through the HIPDB Web site at http://www.npdb-hipdb.com. All reporting and querying is performed through this secure Web site. Due to overlap in requirements for the HIPDB, some of the National Practitioner Data Bank's burden has been subsumed under the HIPDB.

Estimates of burden are as follows:

Regulation citation | Number of respondents | Frequency of responses | Hours per response (min.) | Total burden hours
61.6 (a), (b) Errors & Omissions | 172 | 4.3 | 15 | 184.9
61.6 Revisions/Appeal Status | 107 | 23.25 | 30 | 1,243.9
61.7 Reporting by State Licensure Boards | 275 | 70.3 | 45 | 14,499.4
61.8 Reporting of State Criminal Convictions | 62 | 8 | 45 | 372
61.9 Reporting of Civil Judgments | 54 | 13 | 45 | 526.5
61.10(b) Reporting Exclusions from participating in Federal and State Health Care Programs | 10 | 441.4 | 45 | 3,310.5
61.11 Reporting of adjudicated actions/decisions | 410 | 12.5 | 45 | 3,843.8
61.12 Request for Information State Licensure Boards | 1,000 | 67.5 | 5 | 5,622.8
61.12 Request for Information State Certification Agencies | 16 | 6 | 5 | 8
61.12 Request for Information States/District Attorneys & Law Enforcement | 2,000 | 25 | 5 | 4,165
61.12 Request for Information State Medicaid Fraud Units | 47 | 50 | 5 | 195.8
61.12 Request for Information Health Plans | 2,841 | 263.8 | 5 | 62,429.7
61.12 Request for Information Health Care Providers, Suppliers, Practitioners (self-query) | 37,925 | 1 | 25 | 15,799.6
61.12(a)(4) Request by Researchers for Aggregate Data | 1 | 1 | 30 | .5
61.15 Place Report in Dispute | 459 | 1 | 5 | 38.2
61.15 Add a Statement | 238 | 1 | 45 | 178.5
61.15 Request for Secretarial Review | 43 | 1 | 480 | 344
Entity Registration | 2,500 | 1 | 60 | 2,500
Entity Registration—Update | 451 | 1 | 5 | 37.6
Entity Reactivation | 450 | 1 | 60 | 450
Authorized Agent Designation | 100 | 1 | 15 | 25
Authorized Agent Designation—Update | 250 | 1 | 5 | 20.8
Account Discrepancy | 1,000 | 1 | 15 | 250
Electronic Funds Transfer Authorization | 400 | 1 | 15 | 100
Total |  |  |  | 116,146.5
Numbers in the table may not add up exactly due to rounding.

Written comments and recommendations concerning the proposed information collection should be sent within 30 days of this notice to: Desk Officer, Health Resources and Services Administration, Human Resources and Housing Branch, Office of Management and Budget, New Executive Office Building, Room 10235, Washington, DC 20503.

Dated: March 15, 2004.
Tina M. Cheatham,
Director, Division of Policy Review and Coordination.

[FR Doc. 04-6739 Filed 3-25-04; 8:45 am]

BILLING CODE 4165-15-P